DEPARTMENT OF HEALTH AND HUMAN SERVICES

Centers for Disease Control and Prevention

[CDC-2019-0015, Docket Number NIOSH-153-E]

Skin Notation Profiles for Chlorodiphenyl (42% Chlorine) (CAS: 53469-21-9), Cyclohexanol (CAS: 108-93-0), Cyclohexanone (CAS: 108-94-1), Cyclonite (CAS: 121-82-4), and Diethylenetriamine (CAS: 111-40-0)

AGENCY: National Institute for Occupational Safety and Health (NIOSH) of the Centers for Disease Control and Prevention (CDC), Department of Health and Human Services (HHS).

ACTION: Notice of availability.

SUMMARY: NIOSH announces the availability of Skin Notation Profiles for Chlorodiphenyl (42% chlorine) (CAS: 53469-21-9), Cyclohexanol (CAS: 108-93-0), Cyclohexanone (CAS: 108-94-1), Cyclonite (CAS: 121-82-4), and Diethylenetriamine (CAS: 111-40-0).

DATES: The final documents were published on November 2, 2020 on the CDC website.

ADDRESSES: The documents may be obtained at the following links:

Chlorodiphenyl (42% chlorine) (CAS: 53469-21-9): https://www.cdc.gov/niosh/docs/2021-100/;

Cyclohexanol (CAS: 108-93-0): https://www.cdc.gov/niosh/docs/2021-101/;

Cyclohexanone (CAS: 108-94-1): https://www.cdc.gov/niosh/docs/2021-103/;

Cyclonite (CAS: 121-82-4): https://www.cdc.gov/niosh/docs/2021-104/;

Diethylenetriamine (CAS: 111-40-0): https://www.cdc.gov/niosh/docs/2021-102/;

FOR FURTHER INFORMATION CONTACT: Naomi Hudson (mail to: iuz8@cdc.gov), National Institute for Occupational Safety and Health, Centers for Disease Control and Prevention, 1090 Tusculum Ave., MS C-15, Cincinnati, OH 45226. Phone (513) 533-8388 (not a toll-free number).

SUPPLEMENTARY INFORMATION: On March 15, 2019, NIOSH published a request for public review in the Federal Register [Federal Register Number 2019-04794] [84 FR 9524] on the draft versions of the documents skin notion profiles:

Beta-Chloroprene (CAS: 126-99-8)

Cyclohexanol (CAS: 108-93-0)

Cyclohexanone (CAS: 108-94-1)

Cyclonite (CAS: 121-82-4)

Dioxane (CAS: 123-91-1)

Diacetyl/2,3-Pentanedione (CAS: 431-03-8; 600-14-6)

Diethylenetriamine (CAS: 111-40-0)

Chlorodiphenyl (42% chlorine) (CAS: 53469-21-9)

Chlorodiphenyl (54% chlorine) (CAS: 11097-69-1)

Toluene diisocyanates (CAS: 584-84-9; 91-08-7; 26471-62-5)

Five of these documents have been finalized and published: Chlorodiphenyl (42% chlorine) (CAS: 53469-21-9), Cyclohexanol (CAS: 108-93-0), Cyclohexanone (CAS: 108-94-1), Cyclonite (CAS: 121-82-4), and Diethylenetriamine (CAS: 111-40-0). All comments received were carefully reviewed and addressed, where appropriate. In response to comments received, revisions were made to clarify the data used by NIOSH in its support of the development of the skin notation assignments for these chemicals. NIOSH Skin Notation Profiles, Group E Responses to Peer Review and Public Comments can be found in the Supporting Documents section on www.regulations.gov for this docket. Comments for the draft documents on Beta-chloroprene (CAS: 126-99-8), Dioxane (CAS: 123-91-1), Diacetyl/2,3-Pentanedione (CAS: 431-03-8/600-14-6), Cholorodiphenyl (54% chlorine) (CAS: 110097-69-1) and Toluene diisocyanates (CAS: 584-84-9; 91-08-7; 26471-62-5) are still being considered by NIOSH.

Authority: PHS Act, 42 U.S.C. 241(a)(1).

John J. Howard,
Director, National Institute for Occupational Safety and Health, Centers for Disease Control and Prevention.

[FR Doc. 2020-25300 Filed 11-17-20; 8:45 am]

BILLING CODE 4163-18-P